DEPARTMENT OF HOMELAND SECURITY

Coast Guard

33 CFR Part 117

[Docket No. USCG-2011-1117]

Drawbridge Operation Regulations; Atlantic Intracoastal Waterway and Biscayne Bay, Miami, FL

AGENCY: Coast Guard, DHS.

ACTION: Notice of temporary deviations from regulations.

SUMMARY: The Commander, Seventh Coast Guard District, has issued temporary deviations from the regulations governing the operation of the following two bridges in Miami, Florida: The Venetian Causeway Bridge (West), mile 1088.6, across the Atlantic Intracoastal Waterway; and the Venetian Causeway Bridge (East), across Biscayne Bay. The deviations are necessary due to the high volume of vessel and vehicle traffic anticipated because of the Miami International Boat Show. These deviations will result in the bridges only opening to navigation on the hour and half-hour before, during, and after the Miami International Boat Show.

DATES: These deviations are effective from 7 a.m. on February 13, 2012 through 9 p.m. on February 21, 2012.

ADDRESSES: Documents mentioned in this preamble as being available in the docket are part of docket USCG-2011-1117 and are available online by going to http://www.regulations.gov, inserting USCG-2011-1117 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Michael Lieberum, Seventh District Bridge Branch, Coast Guard; telephone (305) 415-6744, email Michael.B.Lieberum@uscg.mil. If you have questions on viewing the docket, call Renee V. Wright, Program Manager, Docket Operations, telephone (202) 366-9826.

SUPPLEMENTARY INFORMATION: The Miami International Boat Show Operations Manager has requested temporary modifications to the operating schedules of the Venetian Causeway Bridge (West) and the Venetian Causeway Bridge (East) in Miami, Florida. These deviations will result in the bridges being allowed to open only on the hour and half-hour from 7 a.m. to 9 p.m. daily, from February 13, 2012 through February 21, 2012.

The Miami International Boat Show generates a high volume of vessel and vehicle traffic. In previous years, opening these bridges on demand has resulted in significant vehicle congestion. By opening the bridges only on the hour and half-hour (rather than on demand) traffic congestion will be reduced. The temporary deviation will be effective from 7 a.m. on February 13, 2012 through 9 p.m. on February 21, 2012.

The details, regular operating schedule, and deviation period for each bridge are set forth below.

1. Venetian Causeway Bridge (West), mile 1088.6. The vertical clearance of the Venetian Causeway Bridge (West), across the Atlantic Intracoastal Waterway is 12 feet. The normal operating schedule for the Venetian Causeway Bridge (West) is set forth in 33 CFR 117.261(nn). 33 CFR 117.261(nn) requires the bridge to open on signal; except that from 7 a.m. to 7 p.m., Monday through Friday, except Federal holidays, the bridge need only open on the hour and half-hour.

2. Venetian Causeway Bridge (East). The vertical clearance of the Venetian Causeway Bridge (East), across Biscayne Bay is 6 feet. The normal operating schedule for the Venetian Causeway Bridge (East) is set forth in 33 CFR 117.269. 33 CFR 117.269 requires the bridge to open on signal; except that from 7 a.m. to 7 p.m., Monday through Friday, except Federal holidays, the bridge need only open on the hour and half-hour.

As a result of these temporary deviations, the Venetian Causeway Bridge (West) and the Venetian Causeway Bridge (East) will only open to navigation on the hour and half-hour from 7 a.m. until 9 p.m. daily, including weekend days, from February 13, 2012 through February 21, 2012. At all other times the bridges will open on demand. However, the drawspans will open as soon as possible at any time for the passage of public vessels of the United States, tugs, with tows, and vessels in distress.

In accordance with 33 CFR 117.35(e), the drawbridges must return to their regular operating schedules immediately at the end of the designated time period. These deviations from the operating regulations are authorized under 33 CFR 117.35.

Dated: January 11, 2012.
B.L. Dragon,
Bridge Program Director, Seventh Coast Guard District.

[FR Doc. 2012-1729 Filed 1-26-12; 8:45 am]

BILLING CODE 9110-04-P